DEPARTMENT OF THE INTERIOR

National Park Service

[NPS-WASO-NAGPRA-NPS0037093; PPWOCRADN0-PCU00RP14.R50000]

Notice of Inventory Completion: American Museum of Natural History, New York, NY

AGENCY: National Park Service, Interior.

ACTION: Notice.

SUMMARY: In accordance with the Native American Graves Protection and Repatriation Act (NAGPRA), the American Museum of Natural History (AMNH) has completed an inventory of human remains and associated funerary objects and has determined that there is a cultural affiliation between the human remains and associated funerary objects and Indian Tribes or Native Hawaiian organizations in this notice. The human remains and associated funerary objects were removed from Queens County, NY.

DATES: Repatriation of the human remains and associated funerary objects in this notice may occur on or after January 18, 2024.

ADDRESSES: Nell Murphy, American Museum of Natural History, Central Park West at 79th Street, New York, NY 10024, telephone (212) 769-5837, email nmurphy@amnh.org.

SUPPLEMENTARY INFORMATION: This notice is published as part of the National Park Service's administrative responsibilities under NAGPRA. The determinations in this notice are the sole responsibility of AMNH. The National Park Service is not responsible for the determinations in this notice. Additional information on the determinations in this notice, including the results of consultation, can be found in the inventory or related records held by AMNH.

Description

In 1900, human remains representing, at minimum, one individual were removed from Astoria, South of Bittner's Beside Trolley Road From 92st Ferry, Queens County, NY, by M. Raymond Harrington as part of an AMNH funded expedition. The human remains were accessioned that same year. The eight associated funerary objects include one bone awl, one potential hammerstone, one lot of pot sherds, one lot of stones, one lot of animal bones, one lot of charcoal, one lot of shells, and one lot of fish bones.

In 1923, human remains representing, at minimum, one individual were removed from Jamaica, Aqueduct, 250 Ft. East of Public School Near Old South Road, Queens County, NY. The human remains were accessioned that same year as a gift from Eugene Gellot. The one associated funerary object is one lot of animal bone.

In an unknown year, human remains representing, at minimum, one individual were removed from Far Rockaway, Forest and Cornegan Ave, Queens County, NY, by an unknown person while excavating for a building. The human remains were accessioned in 1939 as a gift from Mervin Rosenberg. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, and linguistics information.

Determinations

Pursuant to NAGPRA and its implementing regulations, and after consultation with the appropriate Indian Tribes and Native Hawaiian organizations, AMNH has determined that:

• The human remains described in this notice represent the physical remains of three individuals of Native American ancestry.

• The nine objects described in this notice are reasonably believed to have been placed with or near individual human remains at the time of death or later as part of the death rite or ceremony.

• There is a relationship of shared group identity that can be reasonably traced between the human remains and associated funerary objects described in this notice and the Delaware Nation, Oklahoma; Delaware Tribe of Indians; and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, AMNH must determine the most appropriate requestor prior to repatriation. Requests for joint repatriation of the human remains and associated funerary objects are considered a single request and not competing requests. AMNH is responsible for sending a copy of this notice to the Indian Tribes and Native Hawaiian organizations identified in this notice.

Authority: Native American Graves Protection and Repatriation Act, 25 U.S.C. 3003, and the implementing regulations, 43 CFR 10.9, § 10.10, and § 10.14.

Dated: December 8, 2023.
Melanie O'Brien,
Manager, National NAGPRA Program.

[FR Doc. 2023-27799 Filed 12-18-23; 8:45 am]

BILLING CODE 4312-52-P